DEPARTMENT OF HOMELAND SECURITY

Coast Guard

33 CFR Part 165

[USCG-2025-0531]

Safety Zone; Annual Event French Festival Fireworks, Cape Vincent, NY

AGENCY: Coast Guard, DHS.

ACTION: Notification of enforcement of regulation.

SUMMARY: The Coast Guard will enforce a safety zone for the French Festival Fireworks on July 12th, 2025, in Cape Vincent, NY to provide for the safety of life on navigable waterways during this event. Our regulation for marine events within the Ninth Coast Guard District identifies the regulated area for this event in Cape Vincent, NY. During the enforcement periods, the operator of any vessel in the regulated area must comply with directions from the Patrol Commander or any Official Patrol displaying a Coast Guard ensign.

DATES: The regulations in 33 CFR 165.939 will be enforced for the Cape Vincent, regulated area listed in Table 1 to § 165.939(15) from 5:00 p.m. through 9:45 p.m. on July 12th, 2025.

FOR FURTHER INFORMATION CONTACT: If you have questions about this notification of enforcement, call or email Waterways Management Division Coordinator, U.S. Coast Guard MSU Thousand Islands; telephone 315-774-8724, email SMB-MSDMassena-WaterwaysManagement@uscg.mil.

SUPPLEMENTARY INFORMATION: The Coast Guard will enforce a safety zone regulation in 33 CFR 165.939 for the French Festival Fireworks July 12th, 2025, regulated area from 5:00 p.m. through 9:45 p.m. This action is being taken to provide for the safety of life on navigable waterways during this event. Our regulation for marine events within the Ninth Coast Guard District, § 165.939, specifies the location of the regulated area for the French Festival Fireworks July 12th, 2025, which encompasses portions of the St. Lawrence River in Cape Vincent, NY. During the enforcement period as reflected in § 165.939, if you are the operator of a vessel in the regulated area you must comply with directions from the Patrol Commander or any Official Patrol displaying a Coast Guard ensign.

In addition to this notification of enforcement in the Federal Register, the Coast Guard plans to provide notification of this enforcement period via the Broadcast Notice to Mariners and Local Notice to Mariners. This notification is being issued by the Coast Guard Sector Eastern Great Lakes Prevention Department Head at the direction of the Captain of the Port.

Dated: July 2, 2025.
A. J. Murphy,
Commander, U.S. Coast Guard District. Sector Eastern Great Lakes Prevention Department Head.

[FR Doc. 2025-12656 Filed 7-7-25; 8:45 am]

BILLING CODE 9110-04-P